DEPARTMENT OF JUSTICE

[Docket No. OAG 146; AG Order No. 3418-2014]

Pilot Project for Tribal Jurisdiction Over Crimes of Domestic Violence—Announcement of Successful Applications

AGENCY: Office of the Associate Attorney General, Justice.

ACTION: Notice.

SUMMARY: The Associate Attorney General, exercising authority delegated by the Attorney General, is granting the requests of three Indian tribes to be designated as participating tribes under section 204 of the Indian Civil Rights Act of 1968, as amended, on an accelerated basis, under the voluntary pilot project described in section 908(b)(2) of the Violence Against Women Reauthorization Act of 2013.

DATES: This notice is effective February 6, 2014.

ADDRESSES: Mr. Tracy Toulou, Director, Office of Tribal Justice, Department of Justice, 950 Pennsylvania Avenue NW., Room 2310, Washington, DC 20530, email OTJ@usdoj.gov.

FOR FURTHER INFORMATION CONTACT: Mr. Tracy Toulou, Director, Office of Tribal Justice, Department of Justice, at (202) 514-8812 (not a toll-free number) or OTJ@usdoj.gov.

SUPPLEMENTARY INFORMATION: Section 908(b)(2) of the Violence Against Women Reauthorization Act of 2013 (VAWA 2013) establishes a voluntary pilot project for Indian tribes that wish to commence exercising jurisdiction on an accelerated basis over certain crimes of domestic violence and dating violence and certain criminal violations of protection orders in Indian country. This announcement provides public notice that the Associate Attorney General, exercising authority delegated by the Attorney General, is granting the requests of three Indian tribes to be designated as participating tribes under section 204 of the Indian Civil Rights Act of 1968, as amended, on an accelerated basis, under the voluntary pilot project described in section 908(b)(2) of VAWA 2013. The three tribes are (in alphabetical order):

• The Confederated Tribes of the Umatilla Indian Reservation,

• The Pascua Yaqui Tribe of Arizona, and

• The Tulalip Tribes of Washington.

In deciding to grant the three tribes' requests, the Department of Justice followed the procedures described in the Department's final notice on the Pilot Project for Tribal Jurisdiction over Crimes of Domestic Violence, 78 FR 71645 (Nov. 29, 2013). The Department of Justice coordinated with the Department of the Interior, consulted with affected Indian tribes, and concluded that the criminal justice system of each of the three tribes has adequate safeguards in place to protect defendants' rights, consistent with 25 U.S.C. 1304.

By February 20, 2014, each of the three tribes will notify its community that the tribe will soon commence prosecuting “special domestic violence criminal jurisdiction” (SDVCJ) cases. That notification will include sending press releases to the print and electronic media outlets in the tribe's area. Each of the three tribes may not exercise SDVCJ to prosecute any crime committed before that notification has been completed or before February 20, 2014. Also, during the remainder of the Pilot Project's duration (i.e., until March 7, 2015), each of the three tribes will provide the Department of Justice's Office of Tribal Justice (OTJ) with updated information if changes in the tribe's laws, rules, policies, or personnel render the answers to the tribe's certified Application Questionnaire incomplete, inaccurate, or outdated.

The Department of Justice will post on its Tribal Justice and Safety Web site (http://www.justice.gov/tribal/) each of the three tribes' Application Questionnaires and all the tribal laws, rules, and policies that were attached or linked to those Application Questionnaires. Once posted, these materials will serve as a resource for those tribes that may also wish to participate in the Pilot Project or to commence exercising SDVCJ in March 2015 or later, after the Pilot Project has concluded.

Dated: February 6, 2014.
Tony West,
Associate Attorney General.

[FR Doc. 2014-03023 Filed 2-11-14; 8:45 am]

BILLING CODE 4410-A5-P